DEPARTMENT OF THE INTERIOR

Bureau of Indian Affairs

Privacy Act of 1974, as Amended; Establishment of a New System of Records

AGENCY: Bureau of Indian Affairs, Interior.

ACTION: Notice of addition of a new system of records.

SUMMARY: The Department of the Interior (DOI), Bureau of Indian Affairs (BIA) is issuing public notice of its intent to add a new Privacy Act system of records to its inventory of records systems subject to the Privacy Act of 1974 (5 U.S.C. 552a). This action is necessary to meet the requirements of the Privacy Act to publish in the Federal Register notice of the existence and character of records systems maintained by the agency (5 U.S.C. 552a(e)(4)). The new Privacy Act system of records is entitled Interior, BIA-34: “National Irrigation Information Management System (NIIMS).”

DATES: Comments must be received by August 25, 2008.

ADDRESSES: Any persons interested in commenting on this new system of records may do so by submitting comments in writing to the Privacy Act Officer, 625 Herndon Parkway, Herndon, Virginia 20170, or by e-mail to Joan.Tyler@bia.gov.

FOR FURTHER INFORMATION CONTACT: For information regarding Interior, BIA-34, National Irrigation Information Management System (NIIMS), contact Vicki Forrest, Deputy Bureau Director, Office of Trust Services, Bureau of Indian Affairs, 1849 C Street, NW., Washington, DC 20240, or by e-mail to Vicki.Forrest@bia.gov.

SUPPLEMENTARY INFORMATION: This notice is published pursuant to the Privacy Act of 1974 (5 U.S.C. 552a(e)(4)) and is in exercise of authority delegated by the Secretary of the Interior to the Assistant Secretary—Indian Affairs in 209 DM 8.1. This notice establishes the Privacy Act system of records entitled Interior, BIA-34, “National Irrigation Information Management System (NIIMS).”

NIIMS is a billing, debt collection, and debt management system for customers of Indian irrigation operation-and-maintenance and construction projects operated by the BIA with costs that are reimbursable to the Federal government. NIIMS tracks financial billing and collection information, establishes receivables, processes collection actions and posts them against the receivables, and on a daily basis generates summarized transactions for interfacing with other Departmental financial systems.

Dated: July 9, 2008.
George T. Skibine,
Acting Deputy Assistant Secretary for Policy and Economic Development—Indian Affairs.

SYSTEM NAME:

National Irrigation Information Management System (NIIMS): Interior, BIA—34.

SYSTEM LOCATION:

DOI National Business Center (NBC), 7401 W. Mansfield Ave, D-2772, Denver, CO 80235-2230.

CATEGORIES OF INDIVIDUALS COVERED BY THE SYSTEM:

(1) Customers (water users) of Indian irrigation operation-and-maintenance and construction projects operated by the BIA, including individuals (Indians and non-Indians), private sector parties (businesses), and tribal governments.

(2) Owners of land on which Indian irrigation projects are constructed, operated and maintained, to whom payments for water are made, including individuals (Indians and non-Indians), private sector parties (businesses), and tribal governments.

CATEGORIES OF RECORDS IN THE SYSTEM:

(1) Information on current and former owners of land on which Indian irrigation projects are constructed, including land owner account number, Social Security Number, tax identification number, Indian identification number, phone number, name, address, Federal or State identification numbers.

(2) Customer (water user) billing information, including name of the person who remits payment, and the name of the party who was legally allowed to claim an applicable tax write-off for irrigation related expenses.

(3) Information about land on which irrigation projects are constructed including land construction data, county assigned district identifier, acreage, description of location, name of owner or lessee, phone number of the owner or lessee, and the value of the construction debt allocated to the land.

AUTHORITY FOR MAINTENANCE OF THE SYSTEM:

This system of records is maintained under the authority of 25 U.S.C. 1, 1a, 13; 18 U.S.C. 3055; 25 U.S.C. 480.

ROUTINE USES OF RECORDS MAINTAINED IN THE SYSTEM, INCLUDING CATEGORIES OF USERS AND THE PURPOSES OF SUCH USES:

The primary uses of the records are to bill customers of Indian irrigation operation-and-maintenance and construction projects operated by the BIA, (including individual Indian and non-Indians and private sector parties (businesses)) with costs that are reimbursable to the Federal government, for water supplied by these projects, and to collect debts resulting from unpaid bills.

Disclosure outside the Department of the Interior may be made:

(1) To the Department of the Treasury to recover debts owed to the United States. When a NIIMS account is delinquent for 120 days, it is referred to the Treasury for collection. The information shared with the Treasury includes the tax ID or social security number, the customer name and address, along with the amount of debt owed.

(2)(a) To any of the following entities or individuals, when the circumstances set forth in paragraph (b) are met:

(i) The Department of Justice (DOJ);

(ii) A court, adjudicative or other administrative body;

(iii) A party in litigation before a court or adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purposes for which the records were compiled.

(3) To a congressional office in response to a written inquiry that an individual covered by the system, or the heir of such individual if covered individual is deceased, has made to the office.

(4) To any criminal, civil, or regulatory law enforcement authority (whether Federal, State, territorial, local, tribal, or foreign) when a record, either alone or in conjunction with other information, indicates a violation or potential violation of law—criminal, civil, or regulatory in nature, and the disclosure is compatible with the purpose for which the records were compiled.

(5) To an official of another Federal agency to provide information needed in the performance of official duties related to reconciling or reconstructing data files or to enable that agency to respond to an inquiry by the individual to whom the record pertains.

(6) To Federal, State, territorial, local, tribal, or foreign agencies that have requested information relevant or necessary to the hiring, firing, or retention of an employee or contractor, or the issuance of a security clearance, license, contract, grant, or other benefit, when the disclosure is compatible with the purpose of which the records were compiled.

(7) To representatives of the National Archives and Records Administration to conduct records management inspections under the authority of 44 U.S.C. 2904 and 2906.

(8) To State and local governments and tribal organizations to provide information needed in response to court order and/or discovery purposes related to litigation, when the disclosure is compatible with the purpose for which the records were compiled.

(9) To an expert, consultant, or contractor (including employees of the contractor) of DOI that performs services requiring access to these records on DOI's behalf to carry out the purposes of the system.

(10) The appropriate agencies, entities, and persons when:

(a) It is suspected or confirmed that the security or confidentiality of information in the system of records has been compromised; and

(b) The Department has determined that as a result of the suspected or confirmed compromise there is a risk of harm to economic or property interest, identity theft, or fraud, or harm to the security or integrity of this system or other systems or programs (whether maintained by the Department or another agency or entity) that rely upon the compromised information; and

(c) The disclosure is made of such agencies, entities, and persons who are reasonably necessary to assist in connection with the Department's efforts to respond to the suspected or confirmed compromise and prevent, minimize, or remedy such harm.

(11) To the Office of Management and Budget during the coordination and clearance process in connection with legislative affairs as mandated by OMB Circular A-19.

(12) To the news media when the disclosure is compatible with the purpose for which the records were compiled.

(13) To owners of land on which Indian irrigation projects are constructed, operated and maintained (including individual Indian and non-Indians and private sector parties (businesses)) to verify the payment received.

DISCLOSURES TO CONSUMER REPORTING AGENCIES:

Pursuant to 5 U.S.C. 552a(b)(12), records can be disclosed to consumer reporting agencies as they are defined by the Fair Credit Reporting Act (15 U.S.C. 1681a(f)) or the Federal Claims Collection Act of 1966 (31 U.S.C. 3701(a)(3)).

POLICIES AND PRACTICES FOR STORING, RETRIEVING, ACCESSING, RETAINING, AND DISPOSING OF RECORDS IN THE SYSTEM:

STORAGE:

Records are stored on paper in a locked office or secured desk or cabinet, and in electronic form on hard disks and magnetic tapes.

RETRIEVABILITY:

Customer records are retrieved by name or customer ID number (if assigned). Ownership information is retrieved by owner name, unit serial number, or owner ID number (if assigned). Land information is retrieved by unit serial number.

SAFEGUARDS:

NIIMS is maintained with controls meeting safeguard requirements identified in Departmental Privacy Act Regulations (43 CFR 2.51) for manual and automated records. Access to records is limited to authorized personnel whose official duties require such access.

(1) Physical Security: Paper or electronic format records are maintained in locked file cabinets and/or in secured rooms.

(2) Technical Security: Electronic records are maintained in conformity with Office of Management and Budget and Departmental guidelines reflecting the implementation of the Federal Information Security Management Act. Electronic data are protected through user identification, passwords, database permissions, and software controls. These security measures establish different degrees of access for different types of users. An audit trail is maintained and reviewed periodically to identify unauthorized access. A Privacy Impact Assessment was completed for the NIIMS and is updated at least annually to ensure that Privacy Act requirements and personally identifiable information safeguard requirements are met.

(3) Administrative Security: All DOI and contractor employees with access to NIIMS are required to complete Privacy Act, Records Management Act, and Security Training.

RETENTION AND DISPOSAL:

Records relating to individuals covered by this system are retained in accordance with the Bureau of Indian Affairs Manual (BIAM), approved by the National Archives and Records Administration (NARA), and are scheduled for permanent retention.

SYSTEM MANAGER(S) AND ADDRESS:

Financial Specialist, Division of Irrigation, Power, and Safety of Dams, Office of Trust Services, Bureau of Indian Affairs, 911 NE 11th Avenue, Portland, OR 97232.

NOTIFICATION PROCEDURES:

Inquiries regarding the existence of records should be addressed to the System Manager. The request must be in writing, signed by the requester, and meet the requirements of 43 CFR 2.60.

RECORDS ACCESS PROCEDURES:

A request for access may be addressed to the System Manager. The request must be in writing, signed by the requester, and meet the requirements of 43 CFR 2.63.

CONTESTING RECORD PROCEDURES:

A petition for amendment should be addressed to the System Manager. The request must be in writing, signed by the requester, and meet the content requirements of 43 CFR 2.71.

RECORD SOURCE CATEGORIES:

Source information includes information taken from individuals, information manually extracted from other in-house BIA records such as realty and probate records, information from county assessors and title companies, information from tribal documents, information collected from the Department of the Treasury, and information extracted from native allotment files by authorized BIA employees.

EXEMPTIONS CLAIMED FOR THE SYSTEM:

None.

[FR Doc. E8-16101 Filed 7-14-08; 8:45 am]

BILLING CODE 4312-RY-P